DEPARTMENT OF HEALTH AND HUMAN SERVICES

Health Resources and Services Administration

Infant-Toddler Court Program State Awards

AGENCY: Health Resources and Services Administration (HRSA), Department of Health and Human Services.

ACTION: Announcing fiscal year 2023 supplemental awards to the Infant Toddler Court Program-State Awards (ITCP) cooperative agreements.

SUMMARY: HRSA is providing additional award funds to the current ITCP State awards recipients in fiscal year 2023 to build state and local capacity and implement the infant-toddler court approach in additional sites.

FOR FURTHER INFORMATION CONTACT: Kateryna Zoubak, Early Childhood Systems Analyst, Division of Home Visiting and Early Childhood Systems, Maternal and Child Health Bureau, Health Resources and Services Administration, at ezoubak@hrsa.gov or 240-475-8014.

SUPPLEMENTARY INFORMATION:

Intended Recipient(s) of the Award: 12 recipients of the ITCP—State awards, as listed in Table 1.

Amount of Non-Competitive Award(s): 12 awards for approximately $2.7 million total (up to $225,000 each).

Project Period: September 30, 2023, to September 29, 2024.

Assistance Listing (CFDA) Number: 93.110.

Award Instrument: Cooperative Agreement.

Authority: Social Security Act, title V, section 501(a)(2) (42 U.S.C. 701(a)(2)), as amended.

Table 1—Recipients and Award Amounts
Grant No. | Award recipient name | State | Award amount
U2ZMC46643 | Prevent Child Abuse Arizona | AZ | Up to $225,000.
U2ZMC46645 | Rocky Mountain Children's Law Center | CO | Up to $225,000.
U2ZMC46638 | Georgia State University Research Foundation, Inc | GA | Up to $225,000.
U2ZMC46644 | Iowa Department of Public Health | IA | Up to $225,000.
U2ZMC46639 | Michigan Department of Health and Human Services | MI | Up to $225,000.
U2ZMC46636 | Nevada Division of Child & Family Services | NV | Up to $225,000.
U2ZMC46642 | Passaic County Court Appointed Special Advocates, A New Jersey Nonprofit Corporation | NJ | Up to $225,000.
U2ZMC46640 | Justice Innovation Inc. d/b/a Center for Court Innovation | NY | Up to $225,000.
U2ZMC46637 | Educational Service Center of Cuyahoga County | OH | Up to $225,000.
U2ZMC46641 | Oklahoma Department of Mental Health and Substance Abuse Services | OK | Up to $225,000
U2ZMC46635 | Children's Center | UT | Up to $225,000.
U2ZMC46634 | Children and Youth Justice Center | WA | Up to $225,000.

Justification: The Consolidated Appropriations Act, 2023, included additional funds to support Infant Toddler Courts. Guidance provided in House Report 117-403 specified a “funding increase of $5,000,000 above the fiscal year 2022 enacted level to existing court team grantees,” which HRSA understands is intended to include support for teams currently funded by ITCP State awards (HRSA-22-073). The supplemental awards align with the current ITCP—State awards funding opportunity (HRSA-22-073) and program purpose to continue and expand research-based infant-toddler court teams to improve child welfare practices and enhance the early developmental health and well-being of infants, toddlers, and their families. HRSA is awarding a total of approximately $2.7 million to the 12 current ITCP—State award recipients noted in Table 1.

Carole Johnson,
Administrator.

[FR Doc. 2023-13645 Filed 6-26-23; 8:45 am]

BILLING CODE 4165-15-P